ENVIRONMENTAL PROTECTION AGENCY

[ER-FRL-9001-3]

Environmental Impacts Statements; Notice of Availability

Responsible Agency: Office of Federal Activities, General Information (202) 564-7146 or http://www.epa.gov/compliance/nepa/.

Weekly Receipt of Environmental Impact Statements

Filed 01/17/2012 Through 01/20/2012

Pursuant to 40 CFR 1506.9.

Notice

Section 309(a) of the Clean Air Act requires that EPA make public its comments on EISs issued by other Federal agencies. EPA's comment letters on EIS are available at: http://www.epa.gov/compliance/nepa/eisdata.html.

EIS No. 20120013, Final EIS, USFS, ID, Clearwater National Forest Travel Planning Project, Proposes to Manage Motorized and Mechanized Travel, Clearwater National Forest, Idaho, Clearwater, Latah and Shoshone Counties, ID, Review Period Ends: 02/27/2012, Contact: Heather Berg (208) 476-4541.

EIS No. 20120014, Revised Draft EIS, USFS, MT, East Deer Lodge Valley Landscape Restoration Management Project, To Conduct Landscape Restoration Management Activities, Additional Information Including the Addition of Alternative 3, Pintler Ranger District, Beaverhead Deerlodge National Forest, Powell and Deerlodge Counties, MT, Comment Period Ends: 03/12/2012, Contact: Brent Lignell (406) 494-2147.

EIS No. 20120015, Draft EIS, FTA, WA, Mukilteo Multimodal Project, To Improve the Operations, Safety and Security of Facilities Serving the Mukilteo-Clinton Ferry Route, Funding, USACE Section 10 and 404 Permits, Snohomish County, WA, Comment Period Ends: 03/12/2012, Contact: Daniel Drais (206) 220-4465.

EIS No. 20120016, Draft EIS, BLM, NV, Hycroft Mine Expansion Project, Proposes to Expand Mining Activities on BLM Managed Public Land and Private Land, Approval, Humboldt and Pershing Counties, NV, Comment Period Ends: 03/12/2012, Contact: Kathleen Rehberg (775) 623-1500.

EIS No. 20120017, Draft EIS, FHWA, NY, Tappan Zee Hudson River Crossing Project, To Provide an Improved Hudson River Crossing between Rockland and Westchester Counties Funding, USACE Section 10 and 404 Permits, Rockland and Westchester Counties, NY, Comment Period Ends: 03/15/2012, Contact: Jonathan D. McDade (518) 431-4125.

EIS No. 20120018, Final EIS, FHWA, CA, State Route 76 South Mission Road to Interstate 15 Highway Improvement Project, Widening and Realignment Including Interchange Improvements, USACE Section 404 Permit, San Diego County, CA, Review Period Ends: 02/27/2012, Contact: Manuel E. Sanchez (619) 699-7336.

Amended Notices

EIS No. 20110350, Draft EIS, USFS, AZ, Rosemont Copper Project, Proposed Construction, Operation with Concurrent Reclamation and Closure of an Open-Pit Copper Mine, Coronado National Forest, Pima County, AZ, Comment Period Ends: 01/31/2012, Contact: Bev Everson (520) 388-8300. This document is available on the Internet at: http://www.fs.fed.us/r3/coronado/RosemontDEISmain.htm. Revision to FR Publication 10/21/2011; Extending Comment Period from 1/18/2012 to 1/31/2012.

EIS No. 20110420, Draft Supplement, USACE, TX, Clear Creek Reevaluation Study Project, Flood Risk Management and Ecosystem Restoration, Brazoria, Fort Bend, Galveston and Harris Counties, TX, Comment Period Ends: 01/30/2012, Contact: Andrea Catanzaro (409) 766-6346. Revision to FR Notice Published 12/16/2012; Extending Comment Period from 01/30/2012 to 02/14/2012.

Dated: January 24, 2012.
Cliff Rader,
Director, NEPA Compliance Division, Office of Federal Activities.

[FR Doc. 2012-1814 Filed 1-26-12; 8:45 am]

BILLING CODE 6560-50-P